DEPARTMENT OF TRANSPORTATION

Surface Transportation Board

[Docket No. FD 35703]

Ohio Terminal Railway Company—Operation Exemption—Hannibal Real Estate, LLC

Ohio Terminal Railway Company (OTRC),¹ a noncarrier, has filed a verified notice of exemption under 49 CFR 1150.31 to operate a 12.2-mile line, known as the Omal Secondary Track, from milepost 60.5 at or near Powhatan Point, to milepost 72.7 at or near Hannibal, in Monroe County, Ohio (the Line), pursuant to an operating agreement with Hannibal Real Estate, LLC (Hannibal).

¹ OTRC is a wholly owned, corporate subsidiary of Carload Express, Inc. (CEI), a non-operating rail holding company.

According to OTRC, in 1996, Ormet Railroad Corporation (ORC) acquired the Line from Conrail ² and, subsequently, ORC was exempted from the requirements of 49 U.S.C. Subtitle IV pertaining to its ownership of the 12.2-mile line of railroad.³ OTRC states that, following the exemption, Hannibal was granted an easement over the Line by ORC in 2007 for the provision of rail service in connection with the development of an industrial park served by the Line.

² See Ormet R.R.—Acquisition and Operation Exemption—Consol. Rail Corp., FD 32907 (STB served May 17, 1996).

³ See Ormet R.R.—Acquisition Exemption From 49 U.S.C. Subtitle IV, FD 32908 (STB served Oct. 16, 1996).

This transaction is related to a concurrently filed verified notice of exemption in Carload Express, Inc.—Continuance in Control Exemption—Ohio Terminal Railway Co., Docket No. FD 35704, wherein CEI seeks Board approval to continue in control of OTRC, upon OTRC's becoming a Class III rail carrier.

OTRC states that the operating agreement between OTRC and Hannibal does not contain any interchange commitments. OTRC also states that it will interchange with Norfolk Southern Railway at or near Powhatan Point, Ohio.

The transaction may be consummated on or after January 27, 2013 (30 days after the notice of exemption was filed).

OTRC certifies that its projected annual revenues as a result of the transaction will not result in OTRC's becoming a Class II or Class I rail carrier and will not exceed $5 million.

If the verified notice contains false or misleading information, the exemption is void ab initio. Petitions to revoke the exemption under 49 U.S.C. 10502(d) may be filed at any time. The filing of a petition to revoke will not automatically stay the effectiveness of the exemption. Stay petitions must be filed by January 18, 2013 (at least 7 days before the exemption becomes effective).

An original and 10 copies of all pleadings, referring to Docket No. FD 35703, must be filed with the Surface Transportation Board, 395 E Street SW., Washington, DC 20423-0001. In addition, a copy of each pleading must be served on Richard R. Wilson, 518 N. Center Street, Ste. 100, Ebensburg, PA 15931.

Board decisions and notices are available on our Web site at www.stb.dot.gov.

Decided: January 8, 2013.
By the Board, Rachel D. Campbell, Director, Office of Proceedings.
Jeffrey Herzig,
Clearance Clerk.

[FR Doc. 2013-00458 Filed 1-10-13; 8:45 am]

BILLING CODE 4915-01-P